DEPARTMENT OF TRANSPORTATION

Federal Aviation Administration

14 CFR Part 39

[Docket No. FAA-2021-0302; Project Identifier MCAI-2020-01596-R]

RIN 2120-AA64

Airworthiness Directives; Leonardo S.p.a. Helicopters

AGENCY: Federal Aviation Administration (FAA), DOT.

ACTION: Notice of proposed rulemaking (NPRM).

SUMMARY: The FAA proposes to adopt a new airworthiness directive (AD) for all Leonardo S.p.a. Model AW189 helicopters. This proposed AD was prompted by the identification of misleading information in the emergency procedure for the “1(2) FUEL LOW” caution message. This proposed AD would require revising the existing Rotorcraft Flight Manual (RFM) for your helicopter. The FAA is proposing this AD to address the unsafe condition on these products.

DATES: The FAA must receive comments on this proposed AD by June 3, 2021.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address between 9 a.m. and 5 p.m., Monday through Friday, except Federal holidays.

For service information identified in this NPRM, contact Leonardo S.p.A. Helicopters, Emanuele Bufano, Head of Airworthiness, Viale G.Agusta 520, 21017 C.Costa di Samarate (Va) Italy; telephone +39-0331-225074; fax +39-0331-229046; or at https://www.leonardocompany.com/en/home. You may view this service information at the FAA, Office of the Regional Counsel, Southwest Region, 10101 Hillwood Pkwy., Room 6N-321, Fort Worth, TX 76177. For information on the availability of this material at the FAA, call (817) 222-5110.

Examining the AD Docket

You may examine the AD docket at https://www.regulations.gov by searching for and locating Docket No. FAA-2021-0302; or in person at Docket Operations between 9 a.m. and 5 p.m., Monday through Friday, except Federal holidays. The AD docket contains this NPRM, the European Union Aviation Safety Agency (EASA) AD, any comments received, and other information. The street address for Docket Operations is listed above.

FOR FURTHER INFORMATION CONTACT: Mitch Soth, Flight Test Engineer, Southwest Section, Flight Test Branch, Compliance & Airworthiness Division, FAA, 10101 Hillwood Pkwy., Fort Worth, TX 76177; telephone (817) 222-5110; email mitch.soth@faa.gov.

SUPPLEMENTARY INFORMATION:

Comments Invited

The FAA invites you to send any written relevant data, views, or arguments about this proposal. Send your comments to an address listed under ADDRESSES. Include “Docket No. FAA-2021-0302; Project Identifier MCAI-2020-01596-R” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to https://www.regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Mitch Soth, Flight Test Engineer, Southwest Section, Flight Test Branch, Compliance & Airworthiness Division, FAA, 10101 Hillwood Pkwy., Fort Worth, TX 76177; telephone (817) 222-5110; email mitch.soth@faa.gov. Any commentary that the FAA receives which is not specifically designated as CBI will be placed in the public docket for this rulemaking.

Background

EASA, which is the Technical Agent for the Member States of the European Union, has issued EASA AD 2019-0136, dated June 11, 2019 (EASA AD 2019-0136), to correct an unsafe condition for Leonardo S.p.A. (formerly Finmeccanica Helicopter Division, AgustaWestland) Model AW189 helicopters. EASA advises of the identification of misleading information in the AW189 RFM Emergency procedure associated with the “1(2) FUEL LOW” caution message. In particular, the procedure at issue instructs the pilot to land as soon as practicable within 20 minutes. However, this remaining flight time is guaranteed only if a constant torque value of 50% is maintained. The correct time limit depends on the fuel consumption at different engine power settings. Accordingly, EASA AD 2019-0136 requires amending section 3 of the AW189 RFM, “Emergency and malfunction procedures,” informing all flight crews, and thereafter, operating the helicopter accordingly. This condition, if not addressed, could result in the wrong estimation of the remaining flight time in a low fuel condition, possibly resulting in an uncommanded engine in-flight shut-down and forced landing, with consequent damage to the helicopter or injury to occupants.

EASA initially issued EASA AD 2019-0103, dated May 9, 2019 (EASA AD 2019-0103), to address this unsafe condition. EASA issued EASA AD 2019-0136 to supersede EASA AD 2019-0103 to require using the corrected amendment of the AW189 RFM.

FAA's Determination

These helicopters have been approved by EASA and are approved for operation in the United States. Pursuant to the FAA's bilateral agreement with the European Union, EASA has notified the FAA about the unsafe condition described in its AD. The FAA is proposing this AD after evaluating all known relevant information and determining that the unsafe condition described previously is likely to exist or develop on other helicopters of the same type design.

Related Service Information Under 1 CFR Part 51

The FAA reviewed AW189—RFM, Document No. 189G0290X002, Record of Temporary Revisions, TR No. 3-1, Revision A, dated May 24, 2019 (TR 3-1 Rev A). TR 3-1 Rev A specifies remaining flight times (minutes) based on TQ value (%) if the XFEED is closed or if the XFEED is open with both fuel pumps ON. TR 3-1 Rev A also specifies that the remaining flight times (minutes) are further reduced if the XFEED is open, both fuel pumps are ON and one tank has emptied, and the 2 engines are supplied from the remaining tank.

This service information is reasonably available because the interested parties have access to it through their normal course of business or by the means identified in the ADDRESSES section.

Proposed AD Requirements in This NPRM

This proposed AD would require revising page 3-118 of Section 3, Emergency and Malfunction, of the existing RFM for your helicopter to add remaining flight times (minutes) based on TQ value (%) and conditions that further reduce the remaining flight times.

Differences Between This Proposed AD and the EASA AD

EASA AD 2019-0136 requires revising the existing RFM for your helicopter within 14 days, whereas this proposed AD would require that action within 14 hours time-in-service after the effective date of this AD instead. EASA AD 2019-0136 requires removing the RFM changes previously required by EASA AD 2019-0103, whereas this proposed AD would not.

Costs of Compliance

The FAA estimates that this AD, if adopted as proposed, would affect 4 helicopters of U.S. Registry. Labor rates are estimated at $85 per work-hour. Based on these numbers, the FAA estimates the following costs to comply with this proposed AD.

Revising the existing RFM for your helicopter would take about 0.25 work-hour for an estimated cost of $21 per helicopter and $84 for the U.S. fleet.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Leonardo S.p.a.: Docket No. FAA-2021-0302; Project Identifier MCAI-2020-01596-R.

(a) Comments Due Date

The FAA must receive comments on this airworthiness directive (AD) by June 3, 2021.

(b) Affected ADs

None.

(c) Applicability

This AD applies to Leonardo S.p.a. Model AW189 helicopters, certificated in any category.

(d) Subject

Joint Aircraft Service Component (JASC) Code: 7300, Engine fuel and control.

(e) Unsafe Condition

This AD was prompted by the identification of misleading information in the emergency procedure for the “1(2) FUEL LOW” caution message. The FAA is issuing this AD to prevent the wrong estimation of the remaining flight time in a low fuel condition. The unsafe condition, if not addressed, could result in an uncommanded engine in-flight shut-down and forced landing, with subsequent damage to the helicopter or injury to the occupants.

(f) Compliance

Comply with this AD within the compliance times specified, unless already done.

(g) Required Actions

Within 14 hours time-in-service after the effective date of this AD, revise page 3-118 of Section 3, Emergency and Malfunction Procedures, of the existing Rotorcraft Flight Manual for your helicopter by adding AW189—RFM, Document No. 189G0290X002, Record of Temporary Revisions, TR No. 3-1, Revision A, dated May 24, 2019 (TR 3-1 Rev A). Using a different document with information identical to the information in page 3-118 of TR 3-1 Rev A is acceptable for compliance with the requirement of this paragraph. This action may be performed by the owner/operator (pilot) holding at least a private pilot certificate and must be entered into the aircraft records showing compliance with this AD in accordance with § 43.9(a)(1) through (4) and § 91.417(a)(2)(v). The record must be maintained as required by § 91.417, § 121.380, or § 135.439.

(h) Special Flight Permits

Special flight permits are prohibited.

(i) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (j)(1) of this AD. Information may be emailed to: 9-AVS-AIR-730-AMOC@faa.gov.

(2) Before using any approved AMOC, notify your appropriate principal inspector, or lacking a principal inspector, the manager of the local flight standards district office/certificate holding district office.

(j) Related Information

(1) For more information about this AD, contact Mitch Soth, Flight Test Engineer, Southwest Section, Flight Test Branch, Compliance & Airworthiness Division, FAA, 10101 Hillwood Pkwy., Fort Worth, TX 76177; telephone (817) 222-5110; email mitch.soth@faa.gov.

(2) For service information identified in this AD, contact Leonardo S.p.A. Helicopters, Emanuele Bufano, Head of Airworthiness, Viale G.Agusta 520, 21017 C.Costa di Samarate (Va) Italy; telephone +39-0331-225074; fax +39-0331-229046; or at https://www.leonardocompany.com/en/home. You may view this referenced service information at the FAA, Office of the Regional Counsel, Southwest Region, 10101 Hillwood Pkwy., Room 6N-321, Fort Worth, TX 76177. For information on the availability of this material at the FAA, call (817) 222-5110.

(3) The subject of this AD is addressed in European Union Aviation Safety Agency (EASA) AD 2019-0136, dated June 11, 2019. You may view the EASA AD on the internet at https://www.regulations.gov in Docket No. FAA-2021-0302.

Issued on April 9, 2021.
Ross Landes,
Deputy Director for Regulatory Operations, Compliance & Airworthiness Division, Aircraft Certification Service.

[FR Doc. 2021-07802 Filed 4-16-21; 8:45 am]

BILLING CODE 4910-13-P